DEPARTMENT OF THE INTERIOR

Bureau of Land Management

[L14400000/LLAZ920000/ET0000/AZA-38142]

Public Land Order No. 7915; Withdrawal of Public Land for Land Management Evaluation Purposes, Arizona

AGENCY: Bureau of Land Management, Interior.

ACTION: Public Land Order.

SUMMARY: This order withdraws 2,365.89 acres of public land in Maricopa County, Arizona, from all forms of appropriation under the public land laws, including location and entry under the United States mining laws, and from leasing under the mineral and geothermal leasing laws for 5 years for land management evaluation purposes, subject to valid existing rights.

DATES: This Public Land Order takes effect on November 28, 2022.

FOR FURTHER INFORMATION CONTACT: Michael Ouellett, Realty Specialist, BLM Arizona State Office 1 North Central Avenue, Suite 800, Phoenix, AZ 85004, telephone: (602) 417-9561, email at mouellett@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: This withdrawal keeps the lands identified as follows from the specified forms of appropriation to maintain the current environmental baseline, relative to mineral exploration and development, subject to valid existing rights, to allow the Bureau of Land Management and the Department of the Air Force (USAF) time to complete their land management evaluations. The evaluation of these acres, identified as the Gila Bend Addition, is for a potential Barry M. Goldwater Range legislative withdrawal expansion, pending processing of the USAF's application for withdrawal of public land for defense purposes under the Engle Act (85 FR 21876).

Order

By virtue of the authority vested in the Secretary of the Interior by Section 204 of the Federal Land Policy and Management Act of 1976, 43 U.S.C. 1714, it is ordered as follows:

1. Subject to valid existing rights, the following described public lands are hereby withdrawn from all forms of appropriation under the public land laws, including location and entry under the United States mining laws, and from leasing under the mineral and geothermal leasing laws, to maintain current environmental baseline conditions.

Gila and Salt River Meridian, Arizona

T.6 S., R.4 W.,

Sec. 19, lots 3 and 4, E½SW¼;

Sec. 31, lots 1 and 2, E½NW¼.

T.7 S., R.4 W.,

Sec. 5, SW¼SW¼SW¼;

Sec. 6, lots 3 thru 7, SE¼NW¼, E½SW¼, SE¼;

Sec. 7;

Sec. 8;

Sec. 9, S½.

The areas described aggregate 2,365.89 acres.

2. This withdrawal will expire 5 years from the effective date of this order, unless, as a result of a review conducted pursuant to Section 204(f) of the Federal Land Policy and Management Act of 1976, 43 U.S.C. 1714(f), the Secretary determines that the withdrawal shall be extended.

Shannon A. Estenoz,
Assistant Secretary for Fish and Wildlife and Parks.

[FR Doc. 2022-25839 Filed 11-25-22; 8:45 am]

BILLING CODE 4310-32-P